DEPARTMENT OF VETERANS AFFAIRS

Professional Certification and Licensure Advisory Committee; Notice of Meeting

The Department of Veterans Affairs gives notice under Public Law 92-463 (Federal Advisory Committee Act) that the Professional Certification and Licensure Advisory Committee will meet on Wednesday, December 4, 2002, from 8:30 a.m. to 4 p.m. The meeting will be held at the Department of Veterans Affairs, Veterans Benefits Administration Education Conference Room 601V, 1800 G Street, NW., Washington, DC. The meeting is open to the public.

The purpose of the committee is to review the requirements of organizations or entities offering licensing and certification tests to individuals for which payment for such tests may be made under chapters 30, 32, 34, or 35 of Title 38, United States Code. The agenda for this meeting will include discussion of “owning a test” versus “offering a test” as part of an approval criterion; tracking and data reporting; and other related issues the Committee deems appropriate.

Those planning to attend the open meeting should contact Mr. Giles Larrebee or Mr. Michael Yunker at (202) 273-7187. Interested persons may attend, appear before, or file statements with the Committee. Statements, if in written form, may be filed before the meeting, or within 10 days after the meeting. Oral statements will be heard at 2 p.m., Wednesday, December 4, 2002.

Dated: November 8, 2002.
By Direction of the Secretary.
Nora E. Egan,
Committee Management Officer.

[FR Doc. 02-28971 Filed 11-14-02; 8:45 am]

BILLING CODE 8320-01-M